FEDERAL COMMUNICATIONS COMMISSION

47 CFR Part 17

[WT Docket No. 10-88; FCC 14-117]

Amendments To Modernize and Clarify the Commission's Rules Concerning Construction, Marking and Lighting of Antenna Structures

AGENCY: Federal Communications Commission.

ACTION: Final rule; announcement of effective date.

SUMMARY: In this document, the Federal Communications Commission (Commission) announces that the Office of Management and Budget (OMB) has approved, for a period of three years, certain information collection requirements associated with the Commission's Report and Order regarding Amendments to Modernize and Clarify the Commission's rules concerning construction, marking and lighting of antenna structures. This document is being published pursuant to the Report and Order, which stated that the Commission would publish a document in the Federal Register announcing OMB approval and the effective date of the revised information collection requirements.

DATES: Amendments to 47 CFR 17.4, 17.48 and 17.49, published at 79 FR 56968, September 24, 2014, are effective on July 1, 2015.

FOR FURTHER INFORMATION CONTACT: Cathy Williams by email at Cathy.Williams@fcc.gov and telephone at (202) 418-2918.

SUPPLEMENTARY INFORMATION: This document announces that, on May 13, 2015, OMB approved certain information collection requirements contained in the Commission's Report and Order, FCC 14-117, published in 79 FR 56968, September 24, 2014. The OMB Control Number is 3060-0645. The Commission publishes this notice as an announcement of the effective date of these information collection requirements.

Synopsis

As required by the Paperwork Reduction Act of 1995 (44 U.S.C. 3507), the FCC is notifying the public that it received OMB approval on May 13, 2015, for the revised information collection requirements contained in the Commission's rules at 47 CFR 17.4, 17.48 and 17.49. Under 5 CFR part 1320, an agency may not conduct or sponsor a collection of information unless it displays a current, valid OMB Control Number. No person shall be subject to any penalty for failing to comply with a collection of information subject to the Paperwork Reduction Act that does not display a current, valid OMB Control Number. The OMB Control Number is 3060-0645.

The foregoing notice is required by the Paperwork Reduction Act of 1995, Public Law 104-13, October 1, 1995, and 44 U.S.C. 3507.

The total annual reporting burdens and costs for the respondents are as follows:

OMB Control Number: 3060-0645.

OMB Approval Date: May 13, 2015.

OMB Expiration Date: May 31, 2018.

Title: Sections 17.4, 17.48 and 17.49, Antenna Structure Registration Requirements.

Form Number: N/A.

Respondents: Business or other for-profit entities, not-for-profit institutions and state, local or tribal government.

Number of Respondents and Responses: 20,000 respondents; 475,134 responses.

Estimated Time per Response: .1-.25 hours.

Frequency of Response: On occasion reporting requirement, recordkeeping requirement and third party disclosure requirement.

Obligation to Respond: Required to obtain or retain benefits. Statutory authority for this information collection is contained in Sections 4 and 303 of the Communications Act of 1934, as amended, 47 U.S.C. 154, 303.

Total Annual Burden: 50,198 hours.

Total Annual Cost: $64,380.

Nature and Extent of Confidentiality: There is no need for confidentiality with this collection of information.

Privacy Act Impact Assessment: This collection of information does not affect individuals or households; thus, there are no impacts under the Privacy Act. However, respondents may request materials or information submitted to the Commission be withheld from public inspection under 47 CFR 0.459 of the Commission's rules.

Needs and Uses: The Commission requested OMB approval for a revision of this information collection in order to obtain the full three year approval pursuant to FCC 14-117. These revised information collection requirements, which implement and enforce the updated antenna structure notice, registration, reporting, and recordkeeping requirements of part 17 of the Commission's rules, help improve efficiency, reduce regulatory burdens, and enhance compliance with antenna structure painting and lighting requirements, while continuing to ensure the safety of pilots and aircraft passengers nationwide. The revised information collection requirements are as follows:

Section 17.4 provides that the owner of any proposed or existing antenna structure that requires notice of proposed construction to the Federal Aviation Administration (FAA) due to physical obstruction must register the structure with the Commission. Section 17.4(f) previously required antenna structure owners “to immediately provide a copy” of the antenna structure registration to each tenant. This rule has been revised so that it now requires that antenna structure owners either provide a copy or a link to the FCC antenna structure Web site, and that this notification may be done electronically or via paper mail.

Section 17.4(g) previously required antenna structure owners to display the Antenna Structure Registration Number a conspicuous place that is readily visible near the base of the antenna. This rule has been revised to require that the Antenna Structure Number be displayed so that it is conspicuously visible and legible from the publicly accessible area nearest the base of the antenna structure along the publicly accessible roadway or path. It has also been revised to provide that where an antenna structure is surrounded by a perimeter fence, or where the point of access includes an access gate, the Antenna Structure Registration Number should be posted on the perimeter fence or access gate. Where multiple antenna structures having separate Antenna Structure Registration Numbers are located within a single fenced area, the revised rule provides that the Antenna Structure Registration Numbers must be posted both on the perimeter fence or access gate and near the base of each antenna structure. If the base of the antenna structure has more than one point of access, the revised rule requires that the Antenna Structure Registration Number be posted so that it is visible at the publicly accessible area nearest each such point of access. The registration number is issued to identify antenna structure owners in order to enforce the Congressionally-mandated provisions related to the owners.

Sections 17.48 and 17.49 contain reporting and recordkeeping requirements. Section 17.48(a) required that antenna structure owners promptly report outages of top steady burning lights or flashing antenna structure lights to the FAA. Upon receipt of the outage notification, the FAA issues a Notice to Airmen (NOTAM), which notifies aircraft of the outage. However, the FAA cancels all such notices within 15 days. Previously, the Commission's rules did not require antenna structure owners to provide any notification to the FAA regarding the status of repairs other than the initial outage report and the resumption of normal operation. Thus, if the repairs to an antenna structure's lights required more than 15 days, the FAA may not have had any record of the outage from that 15th day to the resumption of normal operation.

This rule has been revised to require antenna structure owners to provide the FAA with regular updates on the status of their repairs of lighting outages so that the FAA can maintain notifications to aircraft throughout the entire period of time the antenna structure remains unlit. Consistent with the current FAA requirements, if a lighting outage cannot be repaired within the FAA's original NOTAM period, the revised rule requires the antenna structure owner to notify the FAA of that fact. In addition, the revised rule provides that the antenna structure owner must provide any needed updates to its estimated return-to-service date to the FAA. The revised rule also requires antenna structure owners to continue to provide these updates to the FAA every NOTAM period until its lights are repaired.

Section 17.49 previously required antenna structure owners to maintain a record of observed or otherwise known extinguishments or improper functioning of structure lights, but did not specify the time period for which such records must be maintained. This rule has been revised to require antenna structure owners to maintain a record of observed or otherwise known extinguishments or improper functioning of structure lights for two years and provide the records to the Commission upon request.

Federal Communications Commission.
Marlene H. Dortch,
Secretary, Office of the Secretary.

[FR Doc. 2015-16100 Filed 6-30-15; 8:45 am]

BILLING CODE 6712-01-P